DEPARTMENT OF LABOR

Office of the Secretary

Submission for OMB Review; Comment Request

May 9, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

Type of Review: Extension of a currently approved collection.

Agency: Employment Standards Administration (ESA).

Title: Occupancy Certificate—Migrant and Seasonal Agricultural Worker Protection Act.

OMB Number: 1215-0158.

Affected Public: Farms, Individuals or households; Business or other for-profit.

Frequency: On Occasion.

Number of Respondents: 60.

Number of Annual Responses: 60.

Estimated Time Per Response: 3 minutes.

Total Burden Hours: 4.

Total Annualized Capital/Startup Costs: $0.

Total Annual Costs (operating/maintaining systems or purchasing services): $0.

Description: Section 203(b)(1) of the Migrant and Seasonal Agricultural Worker Protection Act (MSPA) and Section 500.135(b) of Regulations 29 CFR part 500, provide that any person who owns or controls a facility or real property to be used for housing migrant agricultural workers shall not permit such housing to be occupied by any worker unless a copy of a certificate of occupancy from State, Local, or Federal agency which conducted the housing safety and health inspection, is posted at the site of the facility or real property.

Form WH-520 is the form used to gather information to determine whether or not the facility meets the applicable safety and health standards, and also serve as the certificate of occupancy. If the information were not collected, it would not be possible to ascertain which facility had been inspected and certified as meeting applicable safety and health standards and who is responsible for maintaining those standards.

Ira L. Mills,
Departmental Clearance Officer.

[FR Doc. 02-12696 Filed 5-20-02; 8:45 am]

BILLING CODE 4510-27-M